DEPARTMENT OF AGRICULTURE

Food and Nutrition Service

Agency Information Collection Activities: Proposed Collection; Comment Request—Regional Office Administered Program (ROAP) Child Nutrition Payment Center (for the National School Lunch, School Breakfast, and Special Milk Programs)

AGENCY: Food and Nutrition Service, USDA.

ACTION: Notice.

SUMMARY: In accordance with the Paperwork Reduction Act of 1995, this notice invites the general public and other public agencies to comment on this existing information collection. This collection is a renewal of a currently approved collection for reporting annual application and monthly claim data via the Child Nutrition Payment Center for the National School Lunch Program, the School Breakfast Program, and the Special Milk Program for schools and institutions administered by a U.S. Department of Agriculture (USDA) Food and Nutrition Service (FNS) Regional Office Administered Program.

DATES: Written comments must be received on or before March 4, 2016.

ADDRESSES: Comments are invited on: (a) Whether the proposed collection of information is necessary for the proper performance of the functions of the agency, including whether the information will have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to Steve Hortin, Branch Chief, Operational Support, Child Nutrition Programs, Food and Nutrition Service, U.S. Department of Agriculture, 3101 Park Center Drive, Room 640, Alexandria, VA 22302-1594. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Steve Hortin at the address indicated above or by phone at 703-305-4375.

SUPPLEMENTARY INFORMATION:

Title: 7 CFR part 210 National School Lunch Program, Part 220 School Breakfast Program, and Part 215 Special Milk Program.

Form Number: (formerly FNS-806A and FNS-806B).

OMB Number: 0584-0284.

Expiration Date: 04/30/2016.

Type of Request: Revision of a currently approved collection.

Abstract: The National School Lunch Program (NSLP), School Breakfast Program (SBP), and Special Milk Program (SMP) are administered by State agencies; however, in the States of Virginia and Colorado, there are some schools and institutions where these Programs are instead administered directly by the associated USDA FNS Regional Office (as part of a Regional Office Administered Program, or ROAP). The State of Virginia, however, will no longer be using a FNS ROAP as of July 1, 2016. As part of a ROAP, these SFAs and institutions complete a Federal Claim for Reimbursement to receive reimbursement for meals and milk served to children. The forms previously used were forms FNS-806A and FNS-806B, respectively. These SFAs and institutions also complete a Federal application to participate in these Programs. The forms previously used were forms FNS-66, FNS-66A, FNS-66B and were previously part of other information collections (OMB control #0584-0006—7 CFR part 210 National School Lunch Program, expiration date February 29, 2016 and OMB control #0584-0005—7 CFR part 210 Special Milk Program for Children, expiration date November 30, 2018). The information previously collected on these five forms is now entered directly into one computerized web application and payment system (submitted electronically via the Internet) referred to as the Child Nutrition Payments Center (currently administered by the FNS Mid-Atlantic Regional Office).

The Child Nutrition (CN) Payment Center is the secure online portal operated by FNS for use by a limited number of institutions and school food authorities (SFAs) within Virginia, Colorado, and U.S. Department of Defense school installations. Through this portal, these SFAs and institutions can submit Program applications and claims for meal reimbursement.

With the renewal of this information collection, the five forms are officially being removed and replaced by the electronic system that currently exists. The reporting and recordkeeping requirements for the application information are being incorporated into this information collection since it is part of the same ROAP system. This system fulfills the requirements set forth in NSLP, SBP and SMP regulations issued by the Secretary of Agriculture (7 CFR 210.8 and 220.11; and 215.10) to collect the meal and milk data for the schools and institutions that are directly administered by the ROAP. This information collection is required to administer and operate these programs in accordance with the NSLA. All of the reporting and recordkeeping requirements are currently approved by the Office of Management and Budget and are in force. This is a revision of the currently approved information collection.

Affected Public: SFAs and institutions participating in the NSLP, SBP, and SMP administered by a FNS ROAP (as of July 1, 2016 when Virginia will no longer be using a FNS ROAP).

Estimated Number of Respondents: 60.

Estimated Number of Responses per Respondent: 11.

Estimated Total Annual Responses: 660.

Reporting Time per Response: 0.5 hours.

Estimated Annual Reporting Burden: 330 hours

Refer to the table below for estimated total annual burden for each type of respondent.

Affected public | Number of respondents | Number responses per respondent | Total annual responses | Estimated average hours per response | Estimated total burden (hours)
ROAP School Food Authorities & Institutions | 60 | 11 | 660 | 0.5 | 330
Total Annual Burden | 60 | 11 | 660 | 0.5 | 330

Dated: December 17, 2015.
Audrey Rowe,
Administrator, Food and Nutrition Service.

[FR Doc. 2015-33027 Filed 12-31-15; 8:45 am]

BILLING CODE 3410-30-P